ENVIRONMENTAL PROTECTION AGENCY

[EPA-HQ-OPP-2008-0195; FRL-8358-5]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by October 14, 2008 or May 16, 2008 for registrations for which the registrant requested a waiver of the 180-day comment period, orders will be issued canceling these registrations. The Agency will consider withdrawal requests postmarked no later than October 14, 2008 or May 16, 2008, whichever is applicable. Comments must be received on or before October 14, 2008 or May 16, 2008, for those registrations where the 180-day comment period has been waived.

ADDRESSES: Submit your comments and your withdrawal request, identified by docket identification (ID) number EPA-HQ-OPP-2008-0195, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001. Written Withdrawal Request, Attention: John Jamula, Information Technology and Resources Management Division (7502P).

• Delivery: OPP Regulatory Public Docket (7502P), Environmental Protection Agency, Rm. S-4400, One Potomac Yard (South Bldg.), 2777 S. Crystal Dr., Arlington, VA. Deliveries are only accepted during the Docket’s normal hours of operation (8:30 a.m. to 4 p.m., Monday through Friday, excluding legal holidays). Special arrangements should be made for deliveries of boxed information. The Docket Facility telephone number is (703) 305-5805.

Instructions: Direct your comments to docket ID number EPA-HQ-OPP-2008-0195. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: John Jamula, Information Technology and Resource Management Division, Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

This notice announces receipt by the Agency of applications from registrants to cancel 407 pesticide products registered under section 3 or 24(c) of FIFRA. These registrations are listed in sequence by registration number (or company number and 24(c) number) in Table 1 of this unit:

Table 1.—Registrations With Pending Requests for Cancellation
Registration no. | Product Name | Chemical Name
000004-00166 | Bonide Oil & Lime Sulphur Spray | Aliphatic petroleum solvent
|  | Calcium polysulfide
000004-00402 | Bonide Lime Sulfur Spray | Calcium polysulfide
000070-00291 | Rigo Maneb Special Fungicide | Maneb
000100-00725 | Logic Fire Ant Killer | Fenoxycarb
000100-00746 | Fenoxycarb 1% Bait | Fenoxycarb
000100-00750 | Precision | Fenoxycarb
000100-00753 | Fenoxycarb 25wp | Fenoxycarb
000100-00792 | Mefenoxam PC | Pentachloronitrobenzene
|  | D-Alanine, N-(2,6-dimethylphenyl)-N-(methoxyacetyl)-, methyl ester
000100 AL-07-0003 | Zephyr 0.15EC | Abamectin
000100 AZ-96-0008 | Mefenoxam EC | D-Alanine, N-(2,6-dimethylphenyl)-N-(methoxyacetyl)-, methyl ester
000100 AZ-96-0009 | Mefenoxam EC | D-Alanine, N-(2,6-dimethylphenyl)-N-(methoxyacetyl)-, methyl ester
000100 CA-01-0008 | Tough 5 EC | Pyridate
000100 CA-96-0013 | Mefenoxam EC | D-Alanine, N-(2,6-dimethylphenyl)-N-(methoxyacetyl)-, methyl ester
000100 CA-96-0024 | Ridomil Copper 70W | Copper hydroxide
|  | Metalaxyl
000100 CO-00-0009 | Dividend XL Rta | D-Alanine, N-(2,6-dimethylphenyl)-N-(methoxyacetyl)-, methyl ester
|  | Difenoconazole
000100 CO-03-0011 | Dividend Extreme Fungicide | D-Alanine, N-(2,6-dimethylphenyl)-N-(methoxyacetyl)-, methyl ester
|  | Difenoconazole
000100 FL-03-0007 | Impasse Termite System | lambda-Cyhalothrin
000100 IA-00-0001 | Mertect (r) 340-F Fungicide | Thiabendazole
000100 IA-99-0002 | Tilt Fungicide | Propiconazole
000100 ID-01-0006 | Tough 5 EC | Pyridate
000100 ID-03-0019 | Dividend Extreme Fungicide | D-Alanine, N-(2,6-dimethylphenyl)-N-(methoxyacetyl)-, methyl ester
|  | Difenoconazole
000100 IL-00-0001 | Tilt Fungicide | Propiconazole
000100 IL-04-0004 | Tilt | Propiconazole
000100 IL-05-0002 | Tilt | Propiconazole
000100 IN-01-0001 | Tough 5 EC | Pyridate
000100 IN-99-0003 | Tilt Fungicide | Propiconazole
000100 KS-03-0002 | Tilt Fungicide | Propiconazole
000100 MN-04-0001 | Dividend Extreme Fungicide | D-Alanine, N-(2,6-dimethylphenyl)-N-(methoxyacetyl)-, methyl ester
|  | Difenoconazole
000100 MN-99-0013 | Dividend XL RTA | D-Alanine, N-(2,6-dimethylphenyl)-N-(methoxyacetyl)-, methyl ester
|  | Difenoconazole
000100 MN-99-0014 | Tilt Fungicide | Propiconazole
000100 MT-01-0003 | Tough 5 EC | Pyridate
000100 MT-03-0007 | Dividend XL RTA | D-Alanine, N-(2,6-dimethylphenyl)-N-(methoxyacetyl)-, methyl ester
|  | Difenoconazole
000100 MT-03-0011 | Dividend Extreme Fungicide | D-Alanine, N-(2,6-dimethylphenyl)-N-(methoxyacetyl)-, methyl ester
|  | Difenoconazole
000100 MT-04-0001 | Dividend XL RTA | D-Alanine, N-(2,6-dimethylphenyl)-N-(methoxyacetyl)-, methyl ester
|  | Difenoconazole
000100 ND-00-0007 | Tough 5 EC | Pyridate
000100 ND-02-0005 | Bravo Ultrex | Chlorothalonil
000100 ND-04-0004 | Dividend Extreme | D-Alanine, N-(2,6-dimethylphenyl)-N-(methoxyacetyl)-, methyl ester
|  | Difenoconazole
000100 ND-04-0005 | Dividend XL RTA | D-Alanine, N-(2,6-dimethylphenyl)-N-(methoxyacetyl)-, methyl ester
|  | Difenoconazole
000100 NE-99-0006 | Tilt Fungicide | Propiconazole
000100 OK-05-0006 | Supracide 2e Insecticide-Miticide | Methidathion
000100 OR-01-0005 | Tough 5 EC | Pyridate
000100 OR-04-0003 | Orbit Fungicide | Propiconazole
000100 OR-04-0014 | Princep Caliber 90 Herbicide | Simazine
000100 OR-04-0037 | Dividend Extreme Fungicide | D-Alanine, N-(2,6-dimethylphenyl)-N-(methoxyacetyl)-, methyl ester
|  | Difenoconazole
000100 PR-93-0003 | Diquat Herbicide | Diquat dibromide
000100 PR-97-0004 | Fusilade DX Herbicide | Propanoic acid, 2-(4-((5-(trifluoromethyl)-2-pyridinyl)oxy)phenoxy)-, butyl ester, (R)-
000100 TN-07-0001 | Zephyr 0.15EC | Abamectin
000100 WA-01-0007 | Tough 5 EC | Pyridate
000100 WA-02-0002 | Ridomil Gold EC | D-Alanine, N-(2,6-dimethylphenyl)-N-(methoxyacetyl)-, methyl ester
000100 WA-02-0013 | Bravo 720 | Chlorothalonil
000100 WA-04-0009 | Dividend Extreme Fungicide | D-Alanine, N-(2,6-dimethylphenyl)-N-(methoxyacetyl)-, methyl ester
|  | Difenoconazole
000100 WI-02-0008 | Bravo 720 | Chlorothalonil
000100 WI-02-0009 | Bravo ZN | Chlorothalonil
000228-00318 | Riverdale Triplet MC Dri Weed and Feed | Dicamba
|  | 2-4,D
|  | Mecoprop-P
000228-00320 | Riverdale 638 Broadleaf Herbicide | 2-4,D
|  | 2,4-D, 2-ethylhexyl ester
000228-00376 | Riverdale Millennium Ultra TM Weed and Feed | Dicamba
|  | 2-4,D
|  | Clopyralid
000239-02594 | Orthenex Insect & Disease Control Formula III | Acephate
|  | Fenbutatin-oxide
|  | Triforine
000239-02595 | Isotox Insect Killer Formula IV | Acephate
|  | Fenbutatin-oxide
000241-00051 | Cyprex 65-W Fruit Fungicide | Dodine
000241 CA-01-0027 | Prowl 3.3 EC Herbicide | Pendimethalin
000241 ID-00-0003 | Prowl 3.3 EC Herbicide | Pendimethalin
000241 ID-00-0007 | Prowl 3.3 EC Herbicide | Pendimethalin
000241 ID-03-0009 | Prowl 3.3 EC Herbicide | Pendimethalin
000241 ID-96-0007 | Prowl 3.3 EC Herbicide | Pendimethalin
000241 MS-02-0002 | Backdraft SL Herbicide | Glyphosate-isopropylammonium
|  | Imazaquin
000241 MS-02-0004 | Onestep Herbicide | Glyphosate-isopropylammonium
|  | 2-(4,5-Dihydro-4-methyl-4-(1-methylethyl)-5-oxo-1H-imidazol-2-yl)-3-pyridinecarboxylic acid
000241 OR-00-0032 | Prowl 3.3 EC Herbicide | Pendimethalin
000241 OR-00-0033 | Prowl 3.3 EC Herbicide | Pendimethalin
000241 OR-01-0004 | Prowl 3.3 EC Herbicide | Pendimethalin
000241 OR-02-0003 | Prowl 3.3 EC Herbicide | Pendimethalin
000241 OR-06-0009 | Prowl H2o Herbicide | Pendimethalin
000241 OR-98-0020 | Prowl 3.3 EC Herbicide | Pendimethalin
000241 PA-99-0002 | Acrobat MZ Fungicide | Mancozeb
|  | Dimethomorph
000241 VA-99-0003 | Acrobat MZ Fungicide | Mancozeb
|  | Dimethomorph
000241 WA-92-0034 | Prowl 3.3 EC Herbicide | Pendimethalin
000241 WV-99-0001 | Acrobat MZ Fungicide | Mancozeb
|  | Dimethomorph
000264-00531 | Buctril Gel | Bromoxynil octanoate
|  | Heptanoic acid, 2,6-dibromo-4-cyanophenyl ester
000264-00757 | Summit S Flowable Fungicide | Sulfur
|  | Triadimefon
000264 AL-05-0001 | Admire 2 Flowable Insecticide | Imidacloprid
000264 AL-05-0004 | Baythroid 2 Emulsifiable Pytrethroid Insecticide | Cyfluthrin
000264 AZ-04-0002 | Sencor DF 75% Dry Flowable Herbicide | Metribuzin
000264 AZ-04-0003 | Admire 2 Flowable | Imidacloprid
000264 CA-00-0016 | Baythroid 2 Emulsifiable Pyrethroid Insecticide | Cyfluthrin
000264 CT-05-0001 | Admire 2 Flowable Insecticide | Imidacloprid
000264 GA-04-0009 | Admire 2 Flowable Insecticide | Imidacloprid
000264 KY-04-0002 | Admire 2 Flowable Insecticide | Imidacloprid
000264 LA-04-0012 | Bayleton 50% Dry Flowable Fungicide | Triadimefon
000264 LA-05-0013 | Baythroid 2 Emulsifiable Pyrethroid Insecticide | Cyfluthrin
000264 MI-95-0004 | Baythroid 2 | Cyfluthrin
000264 MN-97-0004 | Bayleton 50% Wettable Powder | Triadimefon
000264 NY-01-0003 | Sencor DF 75% Dry Flowable Herbicide | Metribuzin
000264 OH-02-0005 | Guthion Solupak 50% Wettable Powder Insecticide | Azinphos-Methyl
000264 OR-03-0014 | Admire 2 Flowable | Imidacloprid
000264 OR-03-0032 | Admire 2 Flowable | Imidacloprid
000264 OR-04-0016 | Bayleton 50% Wettable Powder | Triadimefon
000264 OR-04-0023 | Stratego Fungicide | Propiconazole
|  | Trifloxystrobin
000264 OR-04-0028 | Bronate 5 Herbicide | MCPA, 2-ethylhexyl ester
|  | Bromoxynil octanoate
|  | Heptanoic acid, 2,6-dibromo-4-cyanophenyl ester
000264 OR-98-0002 | Sencor 4 Flowable Herbicide | Metribuzin
000264 OR-98-0019 | Sencor 4 Flowable Herbicide | Metribuzin
000264 SC-04-0007 | Axiom AT | Atrazine
|  | Metribuzin
|  | Flufenacet
000264 SD-04-0007 | Axiom AT DF Herbicide | Atrazine
|  | Metribuzin
|  | Flufenacet
000264 WA-03-0028 | Admire 2 Flowable | Imidacloprid
000264 WA-03-0034 | Admire 2 Flowable | Imidacloprid
000279 AL-90-0007 | Capture 2 EC | Bifenthrin
000279 AR-05-0003 | Capture 2 EC | Bifenthrin
000279 AR-90-0006 | Capture 2 EC | Bifenthrin
000279 AZ-88-0025 | Capture 2 EC | Bifenthrin
000279 CO-03-0006 | Z-Cype 0.8 EC Insecticide | Zeta-Cypermethrin
000279 CO-03-0007 | Z-Cype 0.8 EC Insecticide | Zeta-Cypermethrin
000279 FL-93-0006 | Capture 2 EC | Bifenthrin
000279 GA-90-0003 | Capture 2 EC | Bifenthrin
000279 ID-90-0006 | Capture 2 EC Insecticide/miticide | Bifenthrin
000279 ID-90-0009 | Capture 2 EC Insecticide/miticide | Bifenthrin
000279 LA-00-0008 | Capture 2 EC Insecticide/miticide | Bifenthrin
000279 LA-90-0010 | Capture 2 EC | Bifenthrin
000279 LA-91-0018 | Furadan 4F | Carbofuran
000279 MS-90-0006 | Capture 2 EC | Bifenthrin
000279 MS-98-0010 | Talstar TC Flowable Termiticide/insecticide | Bifenthrin
000279 MT-90-0003 | Capture 2 EC | Bifenthrin
000279 NV-89-0003 | Capture 2 EC | Bifenthrin
000279 NV-92-0007 | Capture 2 EC | Bifenthrin
000279 OK-90-0003 | Capture 2 EC | Bifenthrin
000279 OR-01-0001 | Capture 2 EC Insecticide/miticide | Bifenthrin
000279 OR-90-0008 | Capture 2 EC | Bifenthrin
000279 OR-90-0009 | Capture 2 EC | Bifenthrin
000279 OR-94-0041 | Capture 2 EC Insecticide/miticide | Bifenthrin
000279 OR-96-0021 | Capture 2 EC Insecticide/miticide | Bifenthrin
000279 SC-90-0002 | Capture 2 EC | Bifenthrin
000279 TN-79-0012 | Furadan 4 Flowable | Carbofuran
000279 TN-84-0004 | Furadan 4 Flowable | Carbofuran
000279 TN-90-0005 | Capture 2 EC | Bifenthrin
000279 TX-93-0005 | Capture 2 EC | Bifenthrin
000279 UT-90-0003 | Capture 2 EC | Bifenthrin
000279 VA-91-0001 | Capture 2 EC | Bifenthrin
000279 WA-89-0010 | Capture 2 EC | Bifenthrin
000279 WA-90-0001 | Capture 2 EC | Bifenthrin
000279 WA-93-0005 | Capture 2 EC | Bifenthrin
000279 WA-93-0008 | Capture 2 EC | Bifenthrin
000279 WA-93-0009 | Capture 2 EC | Bifenthrin
000279 WY-03-0001 | Capture 2 EC Insecticide/miticide | Bifenthrin
000352-00445 | Dupont Finesse Herbicide | Chlorsulfuron
|  | Metsulfuron
000352-00516 | Dupont Chlorsulfuron Technical | Chlorsulfuron
000352-00522 | Dupont Glean Fertilizer Compatible Herbicide | Chlorsulfuron
000352-00620 | Dupont Landmark 11 MP | Chlorsulfuron
|  | Sulfometuron
000352-00621 | Dupont Landmark MP | Chlorsulfuron
|  | Sulfometuron
000352-00675 | ETK-2301 Herbicide | Urea, sulfate (1:1)
|  | Glyphosate
000352 LA-01-0017 | Velpar DF Herbicide | Hexazinone
000352 LA-03-0001 | Dupont K-4 Herbicide | Diuron
|  | Hexazinone
000352 TX-99-0018 | Volcano Leafcutter Ant Bait | Sulfluramid
000352 WI-01-0007 | Vydate L Insecticide/nematicide | Oxamyl
000358-00105 | Nott Chew-Not | Thiram
000400-00082 | Omite - 30W | Propargite
000400 CA-81-0088 | Omite 30w An Agricultural Miticide | Propargite
000400 CA-86-0070 | Omite 30W An Agricultural Miticide | Propargite
000400 TX-94-0015 | Fireban Granular Ornamental Insecticide | Tefluthrin
000432-00957 | Preclaim EW Herbicide | Pendimethalin
|  | Fenoxaprop-p-ethyl
000432-00958 | Preclaim EW Herbicide | Pendimethalin
|  | Fenoxaprop-p-ethyl
000432-00959 | Preclaim EW Herbicide | Pendimethalin
|  | Fenoxaprop-p-ethyl
000499-00375 | Whitmire PT 2100 Preclude IGR Insect Growth Regulator | Fenoxycarb
000524 AZ-05-0009 | Bollgard | b.t. plus BXN Cottonseed
000524 AZ-05-0010 | Bollgard II | b.t. plus BXN Cottonseed
000655-00602 | Prentox Dormant Oil Spray Concentrate | Aliphatic petroleum solvent
000655-00795 | Prentox Prenfish Grass Carp Management Bait | Piperonyl butoxide
|  | Rotenone
000655-00803 | Prentox Common Carp Management Bait | Piperonyl butoxide
|  | Rotenone
000748-00246 | W5347op Pilt “70” Plus Concentrate | Tributyltin oxide
000748-00248 | W53471p Pilt “70” Plus Non-Conductive Concentrate | Tributyltin oxide
000748-00257 | W53479 Pilt “70” Plus Nonconductive Ready To Use In Min | Tributyltin oxide
000748-00277 | Pilt 77 Ready To Use | Carbamic acid, butyl-, 3-iodo-2-propynyl ester
000748-00292 | Pilt-NF4 Concentrate | Carbamic acid, butyl-, 3-iodo-2-propynyl ester
000748-00301 | Calbor Granules | Boron sodium oxide (B4Na2O7), pentahydrate
|  | Calcium hypochlorite
000748-00302 | Calbor Tablets | Boron sodium oxide (B4Na2O7), pentahydrate
|  | Calcium hypochlorite
000748-00304 | Calbor 55 Granules | Boron sodium oxide (B4Na2O7), pentahydrate
|  | Calcium hypochlorite
000748 HI-07-0004 | Accu-Tab Blue Calcium Hypochlorite Tablets | Calcium hypochlorite
000769-00679 | Dursban 1% Granular Insecticide | Chlorpyrifos
000802-00073 | Lilly/miller Polysul Summer & Dormant Spray Concentrate | Calcium polysulfide
000869-00178 | Green Light Com-Pleet | Prometon
000869-00212 | Green Light Betasan 3.6 Granules | Bensulide
000961-00340 | Lebanon Country Club 19-4-9 with Ronstar | Oxadiazon
000961-00371 | Lebanon Country Club with Ronstar | Oxadiazon
000961-00382 | Par Ex Slow Release Fertilizer Plus Ronstar | Oxadiazon
001021-00676 | MGK Repellent 874 | 2-Hydroxyethyl octyl sulfide
001021-00933 | Pyrocide Intermediate 6806 | MGK 264
|  | Piperonyl butoxide
|  | Pyrethrins
001021-01129 | D-Trans Intermediate 1869 | d-trans-Chrysanthemum monocarboxylic ester of dl-2-allyl-4-hydroxy-3-methyl-2-cyclopenten-1-
|  | Piperonyl butoxide
001021-01306 | Pyrocide Fogging Concentrate 7211 | Piperonyl butoxide
|  | Pyrethrins
001021-01384 | Neo-Pynamin 80% Concentrate | Tetramethrin
001021-01470 | Esbiothrin 90% Concentrate | d-trans-Chrysanthemum monocarboxylic ester of dl-2-allyl-4-hydroxy-3-methyl-2-cyclopenten-1-
001021-01544 | Pyrocide Concentrate 7369 | Piperonyl butoxide
|  | Pyrethrins
001021-01583 | Multicide Concentrate 2519 | d-Allethrin
|  | Piperonyl butoxide
|  | Phenothrin
001021-01598 | Evercide Concentrate 2556 | Esfenvalerate
001021-01612 | Evergreen Growers Spray 7405 | Pyrethrins
001021-01629 | Evergreen Intermediate 7414 | Pyrethrins
001021-01636 | Evercide Esfenvalerate 35% Wettable Powder | Esfenvalerate
001021-01644 | MGK Piperonyl Butoxide 8E 2630 | Piperonyl butoxide
001021-01680 | Multicide Intermediate 2734 | MGK 264
|  | Phenothrin
001021-01711 | Cycle Break Carpet Spray for Fleas & Ticks | Tetramethrin
|  | Phenothrin
|  | Pyriproxyfen
001021-01712 | Larcore | Pyriproxyfen
001021-01713 | Dalar | Pyriproxyfen
001021-01714 | Sivad Fogger | MGK 264
|  | Pyrethrins
|  | Permethrin
|  | Pyriproxyfen
001021-01745 | Evercide Permethrin Pour-On 2782 | Permethrin
001021-01820 | Turbocide Shroom Insecticide | Piperonyl butoxide
|  | Pyrethrins
001022-00511 | Permatox SN-1 Wood Preservative | Tributyltin oxide
001022-00573 | DCD Copper Sulfate | Copper sulfate pentahydrate
001381 MS-04-0008 | Nufarm Credit Herbicide | Glyphosate-isopropylammonium
001381 MS-04-0009 | Glyphosate 41% | Glyphosate-isopropylammonium
001381 MS-05-0025 | Cornorstone/ R Ascal | Glyphosate-isopropylammonium
001381 MS-05-0026 | Conerstone Plus or Rascal Re-Pack Plus | Glyphosate-isopropylammonium
001448-00436 | STHR | Sodium bromide
|  | Sodium hypochlorite
001706-00137 | Nalcon 7649 | 2,2-Dibromo-3-nitrilopropionamide
001706-00182 | Perma Clean PC-11 | 2,2-Dibromo-3-nitrilopropionamide
002217 LA-99-0010 | Acme Hi-Dep Herbicide | 2,4-D, diethanolamine salt
|  | 2,4-D, dimethylamine salt
002517-00037 | Sergeant's Sentry Collar for Dogs | Dichlorvos
002517-00038 | Sergeant's Sentry Collar for Cats | Dichlorvos
002596-00051 | Hartz My-T-Mite Spray Non-Aerosol Fine Mist Spray | MGK 264
|  | Piperonyl butoxide
|  | Pyrethrins
002596-00055 | Hamster & Gerbil Spray Mist | MGK 264
|  | Piperonyl butoxide
|  | Pyrethrins
002596-00069 | Hartz Cat Flea & Tick Killer with Allethrin | d-trans-Chrysanthemum monocarboxylic ester of dl-2-allyl-4-hydroxy-3-methyl-2-cyclopenten-1-
|  | MGK 264
|  | Phenothrin
002596-00070 | Hartz Dog Flea & Tick Killer with Allethrin | d-trans-Chrysanthemum monocarboxylic ester of dl-2-allyl-4-hydroxy-3-methyl-2-cyclopenten-1-
|  | MGK 264
|  | Phenothrin
002596-00095 | Hartz Cat Flea & Tick Killer | MGK 264
|  | Piperonyl butoxide
|  | Pyrethrins
002596-00096 | Hartz Dog Flea & Tick Killer | MGK 264
|  | Piperonyl butoxide
|  | Pyrethrins
002596-00097 | Hartz 2 In 1 Flea Killer for Dogs/with Allethrin | d-trans-Chrysanthemum monocarboxylic ester of dl-2-allyl-4-hydroxy-3-methyl-2-cyclopenten-1-
|  | MGK 264
|  | Phenothrin
002596-00098 | Hartz 2 In 1 Flea & Tick Killer for Cats/with Allethrin | d-trans-Chrysanthemum monocarboxylic ester of dl-2-allyl-4-hydroxy-3-methyl-2-cyclopenten-1-
|  | MGK 264
|  | Phenothrin
002596-00102 | Hartz 2 In 1 Rid Flea Shampoo Concentrate for Dogs | MGK 264
|  | Piperonyl butoxide
|  | Pyrethrins
002596-00106 | Hartz Fast Acting Roll-On Flea & Tick Killer | MGK 264
|  | Piperonyl butoxide
|  | Pyrethrins
002596-00112 | Hartz 2 In 1 Luster Bath Mousse for Cats and Dogs | MGK 264
|  | Piperonyl butoxide
|  | Pyrethrins
002596-00141 | Hartz Rabon Spray with Methoprene Aerosol Formulation | Gardona (cis-isomer)
|  | S-Methoprene
002935-00413 | Nu-Flow ND | Chloroneb
|  | 2-(Thiocyanomethylthio)benzothiazole
002935-00414 | Nu-Flow D | Chloroneb
003862-00121 | White Magic | Alkyl* dimethyl benzyl ammonium chloride *(60%C14, 30%C16, 5%C18, 5%C12)
|  | Alkyl* dimethyl ethylbenzyl ammonium chloride *(68%C12, 32%C14)
004822-00292 | Raid Flea Killer IV Plus | MGK 264
|  | Piperonyl butoxide
|  | Pyrethrins
|  | Tetramethrin
|  | Fenoxycarb
004822-00442 | Raid D.O.B. | MGK 264
|  | Permethrin
|  | Fenoxycarb
005481-00308 | PCNB-Thiram 30-30 Seed Treat | Pentachloronitrobenzene
|  | Thiram
005481-00311 | PCNB-Thiram 10-10 Seed Treat | Pentachloronitrobenzene
|  | Thiram
005481 NC-92-0002 | Counter XL Systemic Insecticide Nematicide | Terbufos
005887-00154 | Black Leaf Maneb Fungicide | Maneb
007173 KS-04-0004 | Rozol Pocket Gopher Bait | Chlorophacinone
007173 WY-06-0004 | Rozol Prairie Dog Bait | Chlorophacinone
007364-00096 | Poolcare 100 Plus Algaecide | Copper ethanolamine complex
007401-00387 | Ferti-Lome Pruning Sealer | Ethyl 1-naphthaleneacetate
007401 MS-81-0020 | Hi-Yield Decimate Conc. | MSMA (and salts)
007401 MS-81-0021 | Hi-Yield DSMA Liquid Herbicide | DSMA
007401 MS-81-0022 | Hi-Yield DSMA Liquid Herbicide | DSMA
007401 MS-81-0023 | Hi-Yield Super 3A.G. | MSMA (and salts)
007401 MS-81-0024 | Hi-Yield Super Decimate+surfactant | MSMA (and salts)
007501-00162 | Raxil 2.6fs Seed Treatment Fungicide | Tebuconazole
007501-00213 | Ipconazole Metalaxyl MD (cs) | Metalaxyl
|  | Ipconazole
007501 AZ-05-0006 | Gaucho 600 Flowable | Imidacloprid
007501 CO-05-0001 | Enhance Vitavax Captan 20-20 | Captan
|  | Carboxin
007501 ID-00-0017 | Curzate 60DF | Cymoxanil
007501 MN-02-0009 | Soygard L with Protege | Metalaxyl
|  | Azoxystrobin
007501 ND-02-0014 | Soygard L with Protege | Metalaxyl
|  | Azoxystrobin
007501 OR-03-0033 | Enhance Vitavax - Captan 20-20 | Captan
|  | Carboxin
007501 SD-03-0004 | Soygard L with Protege | Metalaxyl
|  | Azoxystrobin
007501 WA-04-0001 | Gustafson Vitavax Captan 20-20 Seed Protectant | Captan
|  | Carboxin
007969-00050 | Pyramin FL Herbicide | Pyrazon
007969 KY-03-0006 | Acrobat MZ Fungicide | Mancozeb
|  | Dimethomorph
008002-00001 | Liquinox Start | 1-Naphthaleneacetic acid
008329-00057 | Abate 1-SG Insecticide | Temephos
008660-00044 | Vertagreen Bordeaux Mixture | Copper sulfate pentahydrate
008660-00065 | Vertagreen Copper Sulfate Crystals | Copper sulfate pentahydrate
008660-00156 | Polyon Turf Fertilizer with Award Fire Ant Bait | Fenoxycarb
009444-00120 | Total Release Fogger | MGK 264
|  | Piperonyl butoxide
|  | Pyrethrins
|  | Fenvalerate
009688-00099 | Chemsico Vegetation Killer Concentrate | Prometon
009688-00100 | Chemsico Vegetation Killer | Prometon
009779-00275 | Riverside Cupric Hydroxide 4.5l | Copper hydroxide
009779-00298 | Riverside Copper Hydroxide 77df | Copper hydroxide
009779-00339 | Terranil CU | Copper oxychloride (Cu2Cl(OH)3)
|  | Chlorothalonil
010088-00111 | Water Soluble Powdered Insecticide | Esfenvalerate
010159-00003 | Hi Yield 3 A. G. | MSMA (and salts)
010163-00187 | Botran 8% Dust | Dicloran
010163-00190 | Botran 12% Dust Fungicide | Dicloran
010163-00192 | Botran 10% Dust | Dicloran
010163-00193 | Botran 4% Dust Fungicide | Dicloran
010163-00207 | Botran 75wsb Fungicide | Dicloran
010163-00221 | Botran Flowable Fungicide | Dicloran
010163-00256 | Confuse-OFM | (Z)-8-Dodecen-1-yl acetate
|  | (E)-8-Dodecen-1-yl acetate
|  | Dodecen-1-ol, (Z)-
010163-00257 | Confuse-CM | (E,E)-8,10-Dodecadien-1-ol
010163-00258 | Confuse-PTB | 5-Decen-1-ol, (E)-
|  | 5-Decen-1-ol, acetate, (E)-
010163-00259 | Confuse-TPW | (Z)-4-Tridecen-1-yl acetate
|  | (E)-4-Tridecen-l-yl acetate
010163-00260 | Confuse -OLR | (Z)-11-Tetradecenyl acetate
|  | 11-Tetradecen-1-ol, acetate, (E)-
010163 TX-97-0001 | Lorsban 50w Insecticide In Water Soluble Packets | Chlorpyrifos
010163 WA-96-0037 | Diclor Fungicide | Dicloran
010806-00061 | Contact Roach and Ant Killer VI | d-trans-Chrysanthemum monocarboxylic ester of dl-2-allyl-4-hydroxy-3-methyl-2-cyclopenten-1-
|  | MGK 264
|  | Piperonyl butoxide
|  | Fenvalerate
010806-00073 | Contact Lawn Spray Concentrate for Fleas | Fenvalerate
010806-00074 | Contact Lawn Spray Concentrate for Fleas II | Fenvalerate
010806-00087 | Contact Roach and Ant Killer IX | MGK 264
|  | Pyrethrins
|  | Fenvalerate
010806-00093 | Contact Ornamental Gypsy Moth and Japanese Beetle Spray | Piperonyl butoxide
|  | Tetramethrin
|  | Fenvalerate
010806-00094 | Contact Roach and Ant Killer XI | d-Allethrin
|  | MGK 264
|  | Fenvalerate
011656-00051 | Poly-Sul Fungicide-Insecticide-Miticide | Calcium polysulfide
019713-00387 | Drexel Lindane Flowable | Lindane
019713-00401 | Drexel Lindane 30% | Lindane
033068-00001 | Aquashade | Acid Blue 9
|  | 1H-Pyrazole-3-carboxylic acid, 4,5-dihydro-5-oxo-1-(4-sulfophenyl)-4-((4-sulfophenyl)azo)-,
034704-00005 | Clean Crop(r) Amine 4ca 2,4-D Weed Killer | 2,4-D, dimethylamine salt
034704-00006 | Clean Crop Lv-6 Ester Weed Killer | 2,4-D, 2-ethylhexyl ester
034704-00084 | Clean Crop Four Power Plus | Benzoic acid, 3,6-dichloro-2-methoxy-, compd with N-methylmethanamine (1:1)
|  | 2,4-D, dimethylamine salt
034704-00111 | Clean Crop Msma 6.6 | MSMA (and salts)
034704-00112 | Clean Crop Dsma 36 | DSMA
034704-00113 | Clean Crop Dsma Powder | DSMA
034704-00115 | Clean Crop Msma 6 Plus | MSMA (and salts)
034704-00428 | Kolodust 60 Fungicide-Miticide | Sulfur
034704-00644 | Clean Crop Weed & Feed 2,4-D Granular | 2,4-D, dimethylamine salt
034704 MS-06-0008 | Permethrin | Permethrin
035935-00005 | Nufarm 2,4-D LV-4 | 2,4-D, 2-ethylhexyl ester
035935-00014 | Nufarm See 2,4-D | 2,4-D, 2-ethylhexyl ester
035935-00017 | Nufarm 2,4-D Amine 4 | 2,4-D, dimethylamine salt
035935-00018 | Nufarm 2,4-D Amine 6 | 2,4-D, dimethylamine salt
035935-00028 | U-46 D-Ester LV Herbicide | 2,4-D, 2-ethylhexyl ester
044446-00009 | Zot Wasp Spray Formula 2 | Chevron 100
|  | Aliphatic petroleum solvent
|  | Resmethrin
045002-00004 | Blue Shield DF | Copper hydroxide
045002-00005 | Copper Hydroxide MUP | Copper hydroxide
045002-00007 | Blue Shield | Copper hydroxide
045002-00014 | Kocide 5 Dust | Copper hydroxide
045002-00016 | Oxycop Dry Fungicide | Copper oxychloride sulfate
045002-00020 | Kozinc WP | Copper hydroxide
045002-00022 | Blue Shield 40 DF Fungicide/bactericide | Copper hydroxide
045002 HI-92-0012 | Blue Shield | Copper hydroxide
046515-00024 | Super K-GRO 3.75% Liquid Vegetation Killer | Prometon
046515-00025 | Super K-GRO 1.5% Liquid Vegetation Killer | Prometon
046515-00037 | K GRO Driveway & Patio Vegetation Killer Concentrate | Prometon
048273-00014 | Pestban TC | Chlorpyrifos
050534 WI-02-0007 | Bravo 825 Agricultural Fungicide | Chlorothalonil
051036-00026 | Micro Flo Company/ 435 Soluble Oil | Aliphatic petroleum solvent
051036-00027 | Micro Flo 455 Soluble Oil | Aliphatic petroleum solvent
051036-00139 | Soluble Oil 97 | Aliphatic petroleum solvent
051036 MP-06-0009 | Chlorpyrifos 4# AG | Chlorpyrifos
051036 MS-06-0009 | Chlorpyrifos 4E AG | Chlorpyrifos
057787-00018 | Calcium Hypochlorite | Calcium hypochlorite
057787-00022 | Algae Block | Barquat MS-100
059623 CA-82-0055 | Dow Dursban 2E Insecticide | Chlorpyrifos
059639 AZ-79-0025 | Orthene 75 S Soluble Powder | Acephate
059639 NC-87-0006 | Orthene 75 S Soluble Powder | Acephate
059639 NC-93-0003 | Orthene 75 S Soluble Powder | Acephate
059639 NJ-04-0002 | Regiment Herbicide | Bispyribac-sodium
060061-00100 | Woodlife F-4WT | Chlorpyrifos
|  | Carbamic acid, butyl-, 3-iodo-2-propynyl ester
060061-00108 | Timbertreat 15 WT | Chlorpyrifos
060063 OR-98-0010 | Echo 720 Agricultural Fungicide | Chlorothalonil
060063 OR-98-0011 | Echo 90dF | Chlorothalonil
061483-00046 | Rabon E.c. Livestock, Poultry and Premise Insecticide | Gardona (cis-isomer)
061483-00051 | Tick & Flea Sponge-On for Dogs and Cats | Gardona (cis-isomer)
062719-00059 | MCP Ester | MCPA, 2-ethylhexyl ester
062719 AZ-94-0003 | Lorsban 50w Insecticide In Water Soluble Packets | Chlorpyrifos
062719 CA-94-0014 | Lorsban 4E-HF | Chlorpyrifos
062719 CA-98-0016 | Lorsban 15G | Chlorpyrifos
062719 CA-99-0004 | Lorsban 15G | Chlorpyrifos
062719 ID-94-0012 | Lorsban 4E-HF | Chlorpyrifos
062719 MO-89-0008 | Lorsban 15G | Chlorpyrifos
062719 MO-94-0001 | Lorsban 4E-HF | Chlorpyrifos
062719 OR-94-0034 | Lorsban 4E-HF | Chlorpyrifos
062719 SC-02-0001 | Lorsban 15G | Chlorpyrifos
062719 WA-94-0004 | Lorsban 4E-HF | Chlorpyrifos
066222-00029 | Cotoran + MSMA with Surfactant Herbicide | MSMA (and salts)
|  | Fluometuron
066222-00030 | Cotoran 80WP Herbicide | Fluometuron
066222-00033 | Cotoran DF | Fluometuron
066222-00034 | Cotoron Accu-Pak | Fluometuron
066222 ID-05-0002 | Rimon 0.83 EC | Novaluron
066222 KS-04-0007 | Nations Ag II Mepiquat Chloride 4.2% Liquid | Mepiquat chloride
066222 MI-05-0003 | Rimon 0.83 EC | Novaluron
066222 MS-05-0006 | Glyphogan Herbicide | Glyphosate
066222 MS-05-0020 | Abamectin 0.15 EC | Abamectin
066222 NC-05-0001 | Rimon 0.83 EC | Novaluron
066222 OR-05-0007 | Rimon 0.83 EC | Novaluron
066222 PA-05-0001 | Rimon 0.83 EC | Novaluron
066222 VA-05-0001 | Rimon 0.83 EC | Novaluron
066222 WI-05-0003 | Rimon 0.83 EC | Novaluron
066222 WV-05-0001 | Rimon 0.83 EC | Novaluron
066330-00028 | Captan 80-WP | Captan
066330-00224 | Chlorpyrifos 1/2% Bait | Chlorpyrifos
066330-00225 | Micro Flo Chlorpyrifos Termite Concentrate | Chlorpyrifos
066330-00230 | Micro Flo Chlorpyrifos 2E | Chlorpyrifos
066330-00231 | Chlorpyrifos 1% Bait | Chlorpyrifos
066330-00232 | Chlorpyrifos 4-E Insecticide | Chlorpyrifos
066330-00236 | Captan 80 WP | Captan
066330-00249 | Micro Flo Chlorpyrifos 4E Wood Treater | Chlorpyrifos
066330-00252 | 1% Chlorpyrifos Granule | Chlorpyrifos
066330-00255 | 2,4-Db 1.75 Broadleaf Herbicide | Dimethylamine 4-(2,4-dichlorophenoxy)butyrate
066330-00256 | 2,4-Db 200 Broadleaf Herbicide | Dimethylamine 4-(2,4-dichlorophenoxy)butyrate
066330-00261 | Flo-Met 80DF | Fluometuron
066330-00263 | Chlorpyrifos 2.5G | Chlorpyrifos
066330-00266 | Chlorpyrifos 2E AG | Chlorpyrifos
066330-00268 | Chlorpyrifos 1/2% Granule | Chlorpyrifos
066330-00269 | Chlorpyrifos 2.32% Granule | Chlorpyrifos
066330-00279 | Chlorpyrifos 4# Wheat | Chlorpyrifos
066330-00289 | Captan 7.5 Dust | Captan
066330-00303 | Captan 80 EG | Captan
066330 FL-94-0013 | Capton 80 W | Captan
066330 MN-01-0008 | Chlorpyrifos 4E AG | Chlorpyrifos
066330 ND-01-0002 | Chlorpyrifos 4# AG | Chlorpyrifos
066330 OH-95-0002 | Captan 80 WP | Captan
066330 PA-95-0006 | Captan 80 WP | Captan
067619-00006 | Cppc Tilex IMR | Sodium hypochlorite
067751 OR-94-0001 | Select 2ec Herbicide | Clethodim
067760-00001 | Fyfanon 5 EC | Malathion
067760-00003 | Fyfanon 6% Malathion Grain Protector | Malathion
067760-00010 | Cyren TC | Chlorpyrifos
067760-00015 | Fyfanon Stored Grain Dust 1% | Malathion
067760-00065 | Cheminova Acephate 75SP | Acephate
067760-00066 | Cheminova Acephate 90SP | Acephate
070506-00077 | Agvalue Pronamide Technical | Propyzamide
070506-00078 | Break-Up 50 WP | Propyzamide
070506-00104 | Metri 75 DF Turf Herbicide | Metribuzin
070506 CA-99-0003 | Desicate II | Endothall, mono(N,N,-dimethyl alkyl amine) salt
070506 ID-98-0013 | Desicate II | Endothall, mono(N,N,-dimethyl alkyl amine) salt
070506 NV-98-0002 | Desicate II | Endothall, mono(N,N,-dimethyl alkyl amine) salt
071654-00015 | Guardall Iodine Disinfectant | Nonylphenoxypolyethoxyethanol - iodine complex
071654-00016 | Bioguard 453 | Alkyl* dimethyl benzyl ammonium chloride *(61% C12, 23% C14, 11% C16, 2.5% C18 2.5% C10 and
|  | Alkyl* dimethyl benzyl ammonium chloride *(58%C14, 28%C16, 14%C12)
071654-00018 | Bioguard Gp Disinfectant-Sanitizer | Alkyl* dimethyl benzyl ammonium chloride *(50%C14, 40%C12, 10%C16)
071711 CA-04-0001 | Applaud 70wp Insect Growth Regulator | Buprofezin
072639-00011 | Goldengro TM R | Indole-3-butyric acid
|  | 1-Naphthaleneacetic acid
|  | Cytokinin (as kinetin)
080225 AZ-05-0003 | Eptam 7-E | Carbamothioic acid, dipropyl-, S-ethyl ester

A request to waive the 180-day comment period has been received for the following registrations: 400-82; 2517-37; 62719-59; CA-81-0088; CA-86-0070; 34704-5;34704-6; 34704-84; 34704-111; 34704-112; 34704-113;34704-115; 34704-428; and 34704-644.

Unless a request is withdrawn by the registrant within 180 days of publication of this notice, orders will be issued canceling all of these registrations. Users of these pesticides or anyone else desiring the retention of a registration should contact the applicable registrant directly during this 180-day period.

Table 2 of this unit includes the names and addresses of record for all registrants of the products in Table 1 of this unit, in sequence by EPA company number:

Table 2—Registrants Requesting Voluntary Cancellation
EPA Company no. | Company Name and Address
000004 | Bonide Products, Inc., 6301 Sutliff Rd., Oriskany, NY 13424.
000070 | Value Gardens Supply, LLC, d/b/a Garden Value Supply, P.O. Box 585, Saint Joseph, MO 64502.
000100 | Syngenta Crop Protection, Inc., Attn: Regulatory Affairs, P.O. Box 18300, Greensboro, NC 27419-8300.
000228 | Nufarm Americas Inc., 150 Harvester Dr., Suite 200, Burr Ridge, IL 60527.
000239 | The Ortho Business Group, d/b/a The Scotts Co., P.O. Box 190, Marysville, OH 43040.
000241 | BASF Corp., P.O. Box 13528, Research Triangle Park, NC 27709-3528.
000264 | Bayer Cropscience LP, 2 T.W. Alexander Dr., Research Triangle Park, NC 27709.
000279 | FMC Corp. Agricultural Products Group, 1735 Market St, Philadelphia, PA 19103.
000352 | E. I. Du Pont De Nemours & Co., Inc., Dupont Crop Protection (s300/427), P.O. Box 30, Newark, DE 19714-0030.
000358 | Nott Products Co. Inc., P.O. Box 975, Coram, NY 11727.
000400 | Chemtura Corp., Attn: Crop Registration, 199 Benson Rd. (2-5), Middlebury, CT 06749.
000432 | Bayer Environmental Science, A Business Group of Bayer Cropscience LP, P.O. Box 12014, Research Triangle Park, NC 27709.
000499 | Whitmire Micro-Gen Research Laboratories Inc., 3568 Tree Ct. Industrial Blvd, St Louis, MO 63122-6682.
000524 | Monsanto Co., Agent For: Monsanto Co., 1300 I St., NW, Suite 450 E., Washington, DC 20005.
000655 | Prentiss Inc., C.B. 2000, Floral Park, NY 11001-2000.
000748 | PPG Industries, Inc., Agent For: PPG Industries, Inc., 4325 Rosanna Dr., Allison Park, PA 15101.
000769 | Value Gardens Supply, LLC, d/b/a Value Garden Supply, P.O. Box 585, Saint Joseph, MO 64502.
000802 | Registrations By Design, Inc., Agent For: Central Garden & Pet d/b/a Lilly Miller Brands, 1181/2 E. Main St., Suite 1, Salem, VA 24153-3805.
000869 | Green Light Co., P.O. Box 17985, San Antonio, TX 78217.
000961 | Lebanon Seaboard Corp., 1600 E. Cumberland St., Lebanon, PA 17042.
001021 | Mclaughlin Gormley King Co., 8810 Tenth Ave., North, Minneapolis, MN 55427-4372.
001022 | IBC Mfg. Co., c/o Gail Early, 416 E. Brooks Rd., Memphis, TN 38109.
001381 | Alice Walker Consulting, Agent For: Winfield Solutions, LLC, 3094 Country Club Rd., Senatobia, MS 38668.
001448 | Buckman Laboratories Inc., 1256 North Mclean Blvd., Memphis, TN 38108.
001706 | Nalco Co., 1601 W. Diehl Rd., Naperville, IL 60563-1198.
002217 | PBI/Gordon Corp., P.O. Box 014090, Kansas City, MO 64101-0090.
002517 | Regguide, Agent For: Sergeant's Pet Care Products, Inc., 509 Tower Valley Drive, Hillsboro, MO 63050.
002596 | The Hartz Mountain Corp., Attn: Robert Rosenwasser, 400 Plaza Drive, Secaucus, NJ 07094.
002935 | Wilbur Ellis Co., P.O. Box 1286, Fresno, CA 93715.
003862 | ABC Compounding Co, Inc., P.O. Box 16247, Atlanta, GA 30321-0247.
004822 | S.C. Johnson & Son Inc., 1525 Howe St., Racine, WI 53403.
005389 | Ecolab Inc., Agent For: Kay Chemical Co., 370 N. Wabasha St., St. Paul, MN 55102.
005481 | Amvac Chemical Corp., d/b/a Amvac, 4695 Macarthur Ct., Suite 1250, Newport Beach, CA 92660-1706.
005887 | Value Gardens Supply, LLC, d/b/a Value Garden Supply, P.O. Box 585, Saint Joseph, MO 64502.
007173 | Liphatech, Inc., 3600 W. Elm St., Milwaukee, WI 53209.
007364 | GLB Pool & Spa, W175 N11163 Stonewood Dr., Suite 234, Germantown, WI 53022-4799.
007401 | Voluntary Purchasing Groups, Inc., P.O. Box 460, 230 FM 87, Bonham, TX 75418.
007501 | Gustafson LLC, P.O. Box 660065, Dallas, TX 75266.
007969 | BASF Corp., Agricultural Products, P.O. Box 13528, Research Triangle Park, NC 27709-3528.
008002 | Liquinox Co., 221 W. Meats Ave., Orange, CA 92665.
008329 | Clarke Mosquito Control Products Inc., 159 N Garden Ave., Roselle, IL 60172.
008660 | United Industries Corp., d/b/a Sylorr Plant Corp., P.O. Box 142642, St. Louis, MO 63114-0642.
009444 | Waterbury Companies Inc., P.O. Box 640, Independence, LA 70443.
009688 | Chemsico, Div., of United Industries Corp., P.O. Box 142642, St Louis, MO 63114-0642.
009779 | Winfield Solutions, LLC, P.O. Box 64589, St Paul, MN 55164-0589.
010088 | Athea Laboratories Inc., P.O. Box 240014, Milwaukee, WI 53224.
010159 | Voluntary Purchasing Group Inc., P.O. Box 460, 230 FM 87, Bonham, TX 75418.
010163 | Gowan Co., P.O. Box 5569, Yuma, AZ 853665569.
010806 | Contact Industries, Div., of Safeguard Chemical Corp., 411 Wales Ave., Bronx, NY 10454.
011656 | Western Farm Service, Inc., Attn: Dunya Haproff-Fondse, P.O. Box 1168, Fresno, CA 93715-1168.
019713 | Drexel Chemical Co., P.O. Box 13327, Memphis, TN 38113-0327.
033068 | Aquashade, W175 N11163 Stonewood Dr., Suite 234, Germantown, WI 53022-4799.
034704 | Loveland Products, Inc., P.O. Box 1286, Greeley, CO 80632-1286.
035935 | Nufarm Limited, Agent For: Nufarm Limited, P.O. Box 13439, Rtp, NC 27709.
044446 | Quest Chemical Corp., 12255 F.M. 529 Northwoods Industrial Park, Houston, TX 77041.
045002 | Albaugh, Inc., P.O. Box 2127, Valdosta, GA 31604-2127.
046515 | Celex, Division of United Industries Corp., P.O. Box 142642, St. Louis, MO 63114-0642.
048273 | Nufarm Inc., Agent For: Marman USA Inc., 150 Harvester Dr., Suite 200, Burr Ridge, IL 60527.
050534 | GB Biosciences Corp., P.O. Box 18300, Greensboro, NC 27419-5458.
051036 | BASF Sparks Llc, P.O. Box 13528, Research Triangle Park, NC 27709.
057787 | Haviland Consumer Products, Inc., d/b/a Haviland Consumer Products, 421 Ann St., NW., Grand Rapids, MI 49504-2075.
059623 | California Dept. of Food & Agriculture O. Office of Pesticide Consultation & analysis, 1220 N. St., Rm. 444, Sacramento, CA 95814.
059639 | Valent U.S.A. Corp., Agent For: Valent U.S.A. Corp., 1101 14th St., NW, Suite 1050, Washington, DC 20005.
060061 | Kop-Coat, Inc., 436 Seventh Ave., Pittsburgh, PA 15219.
060063 | Sipcam Agro USA, Inc., 300 Colonial Parkway, Suite 230, Roswell, GA 30076.
061483 | KMG-Bernuth, Inc., 10611 Harwin Dr., Houston, TX 77036-1534.
062719 | Dow Agrosciences LLC, 9330 Zionsville Rd., 308/2E, Indianapolis, IN 46268-1054.
066222 | Makhteshim-Agan of North America Inc., 4515 Falls of Neuse Rd., Suite 300, Raleigh, NC 27609.
066330 | Arysta Lifescience North America Corp., 15401 Weston Parkway, Suite 150, Cary, NC 27513.
067619 | Clorox Professional Products Co., P.O. Box 493, Pleasanton, CA 94566-0803.
067751 | OMG Meadowfoam Oil Seed Growers, P.O. Box 4306, Salem, OR 97302.
067760 | Cheminova Inc., 1700 Route 23 - Suite 300, Wayne, NJ 07470.
070506 | United Phosphorus, Inc., 630 Freedom Business Center, Suite 402, King Of Prussia, PA 19406.
071654 | E.I. Dupont De Nemours & Co., Dupont Chemical Solutions Enterprise, P.O. Box 80402, Wilmington, DE 19880-0402.
071711 | Nichino America, Inc., 4550 New Linden Hill Rd., Suite 501, Wilmington, DE 19808.
072639 | Pyxis Regulatory Consulting, Inc., Agent For: LT Biosyn, Inc., 4110 136th St., NW., Gig Harbor, WA 98332.
080225 | Gowan Co., Agent For: Isilya Group Ltd., P.O. Box 5569, Yuma, AZ 85364.

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before October 14, 2008. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a Data Call-In. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a special review action, or where the Agency has identified significant potential risk concerns associated with a particular chemical.

List of Subjects

Environmental protection, Pesticides and pests.

Dated: April 2, 2008.
Oscar Morales
Director, Information Technology and Resources Management Division, Office of Pesticide Programs.

[FR Doc. E8-7623 Filed 4-15-08; 8:45 am]

BILLING CODE 6560-50-S